DEPARTMENT OF ENERGY

[OE Docket No. PP-334]

Notice of Availability for Public Comment of Interconnection Facilities Studies Prepared for the Proposed Energia Sierra Juarez Transmission Project

AGENCY: Office of Electricity Delivery and Energy Reliability, DOE.

ACTION: Notice of availability for public comment of Interconnection Facilities Studies.

SUMMARY: Sempra Generation applied to the Department of Energy (DOE), on behalf of Energia Sierra Juarez U.S. Transmission, LLC, for a Presidential permit to construct, operate, maintain, and connect an electric transmission line across the U.S. border with Mexico, currently referred to as the Energia Sierra Juarez Transmission Project (ESJ Project). The ESJ Project would connect a wind energy project to be built in the vicinity of La Rumorosa, Baja California, Mexico, to San Diego Gas and Electric Company's (SDG&E) existing Southwest Powerlink (SWPL) 500-kV transmission line. DOE hereby announces the availability for public comment of the Interconnection Studies prepared for the ESJ Project.

DATES: Comments must be submitted on or before March 9, 2012.

ADDRESSES: Comments should be addressed to: Dr. Jerry Pell, Office of Electricity Delivery and Energy Reliability, OE-20, U.S. Department of Energy, 1000 Independence Avenue SW., Washington, DC 20585-0001. Because of delays in handling conventional mail, it is recommended that documents be transmitted by overnight mail, by electronic mail to Jerry.Pell@hq.doe.gov (preferred), or by facsimile to (202) 318-7761.

FOR FURTHER INFORMATION CONTACT: Dr. Jerry Pell (Program Office) at (202) 586-3362, or by email to Jerry.Pell@hq.doe.gov, or contact Brian Mills at 2(02) 586-8267, or by email to Brian.Mills@hq.doe.gov.

SUPPLEMENTARY INFORMATION: The construction, operation, maintenance, and connection of facilities at the international border of the United States for the transmission of electric energy between the United States and a foreign country is prohibited in the absence of a Presidential permit issued pursuant to Executive Order (EO) 10485, as amended by EO 12038.

On December 20, 2007, Sempra Generation, on behalf of Energia Sierra Juarez U.S. Transmission, LLC, filed an application with the Office of Electricity Delivery and Energy Reliability of DOE for a Presidential permit. That application was originally noticed in the Federal Register for public comment on February 22, 2008 (73 FR 9782). The proposed transmission line project would connect up to 1,250 megawatts of electric power produced from wind turbines to be located in the vicinity of La Rumorosa, Baja California, Mexico, to SDG&E's existing Southwest Powerlink (SWPL) 500-kV transmission line. This La Rumorosa Wind Energy Project is now referred to as the ESJ Wind Project. The proposed transmission facilities would be about two-thirds of a mile long inside the United States and two miles long inside Mexico, and consist of either a double-circuit 230-kilovolt (kV) or a single-circuit 500-kV electric transmission line that would cross the U.S.-Mexico international border in the vicinity of Jacumba, San Diego County, California. The proposed facilities would include a loop-in substation on the SWPL. The proposed loop-in substation, known as the East County Substation (ECO Sub), would be owned and operated by SDG&E. From the U.S.-Mexico border, the proposed transmission line would continue south approximately two additional miles to its origination point at a future 230/500-kV substation. The proposed transmission line located in Mexico and the 230/500-kV substation would be constructed, owned, operated, and maintained by a subsidiary of Sempra Energy Mexico.

The proposed transmission line would be used to transmit the entire electrical output of the first phase of the ESJ Wind Project from Mexico to the United States (about 130 MW). Energy would not be exported from the United States to Mexico, except for the small amount of electrical energy needed for wind turbine lubrication, hydraulic, and control systems when the wind generators are not operating. Any entity exporting such electrical energy from the United States would require an electricity export authorization issued by DOE under section 202(e) of the Federal Power Act (16 U.S.C. 824a(e)).

This Notice now announces the availability for public comment of the Interconnection Facilities Studies prepared as part of the application by Sempra Generation in conjunction with the California Independent System Operator that controls the grid connected to the project and SDG&E, which is the participating transmission owner. These technical transmission studies are available on DOE's project Web site at http://esjprojecteis.org; first go to the “Document Library” and then select the “Reliability Studies” section that has been added at the very top of that page.

All comments received in response to this Notice will be posted on DOE's project Web site and made a part of the record in this proceeding to be considered by DOE before making a final determination on the issuance of a Presidential permit for the ESJ Project.

Before a Presidential permit may be issued or amended, DOE must determine that the proposed action is in the public interest. In making that determination, DOE considers the environmental impacts of the proposed project pursuant to the National Environmental Policy Act (NEPA) of 1969, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Issued in Washington, DC, on February 2, 2012.
Brian Mills,
Director, Permitting and Siting, Office of Electricity Delivery and Energy Reliability.

[FR Doc. 2012-2848 Filed 2-7-12; 8:45 am]

BILLING CODE 6450-01-P